ENVIRONMENTAL PROTECTION AGENCY

[EPA-HQ-OPP-2012-0390; FRL-9375-5]

Pesticide Product Registration; Receipt of Applications for New Uses

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before January 30, 2013.

ADDRESSES: Submit your comments, identified by docket identification (ID) number and the EPA Registration Number or EPA File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave., NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: A contact person is listed at the end of each registration application summary and may be contacted by telephone, email, or mail. Mail correspondence to the Registration Division (RD) (7505P), Office of Pesticide Programs, Environmental Protection Agency, 1200 Pennsylvania Ave., NW., Washington, DC 20460-0001. As part of the mailing address, include the contact person's name, division, and mail code. The division and mail code is listed above in this paragraph.

SUPPLEMENTARY INFORMATION:

I. General Information

A. Does this Action Apply to Me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What Should I Consider as I Prepare My Comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Registration Applications

EPA has received applications to register new uses for pesticide products containing currently registered active ingredients. Pursuant to the provisions of FIFRA section 3(c)(4), EPA is hereby providing notice of receipt and opportunity to comment on these applications. Notice of receipt of these applications does not imply a decision by the Agency on these applications. For actions being evaluated under the Agency's public participation process for registration actions, there will be an additional opportunity for a 30-day public comment period on the proposed decision. Please see the Agency's public participation Web site for additional information on this process (http://www.epa.gov/pesticides/regulating/registration-public-involvement.html). EPA received the following applications to register new uses for pesticide products containing currently registered active ingredients:

1. EPA Registration Number and EPA File Symbol: 264-1049 and 72155-RNO. Docket ID Number: EPA-HQ-OPP-2012-0946. Applicant: Bayer CropScience, 2 T. W. Alexander Drive, P. O. Box 12014, Research Triangle Park, NC 27709. Active Ingredient: Spirotetramat. Product Type: Insecticide. Proposed Uses: Residential use—outdoor. Contact: Rita Kumar, (703) 308-8291, email address: kumar.rita@epa.gov.

2. EPA Registration Number: 524-591. Docket ID Number: EPA-HQ-OPP-2012-0829. Applicant: Monsanto Company, 1300 I Street NW., Suite 450 East, Washington DC 20005, (a member of the Acetochlor Registration Partnership, (ARP)). Active Ingredient: Acetochlor. Product Type: Herbicide. Proposed Uses: Sugar beet and peanut. Contact: Hope Johnson, (703) 305-5410, email address: johnson.hope@epa.gov.

3. EPA File Symbol: 39039-EN. Docket ID Number: EPA-HQ-OPP-2012-0981. Applicant: Y-Tex Corporation, P.O. Box 1450, 1825 Big Horn Ave., Cody, WY 82414-1450. Active Ingredients: zeta-cypermethrin and Piperonyl butoxide. Product Type: Insecticide. Proposed Use: To control darkling beetles in poultry house litter. Contact: Linda DeLuise, (703) 305-5428, email address: deluise.linda@epa.gov.

4. EPA Registration Number: 56228-10. Docket ID Number: EPA-HQ-OPP-2012-0910. Applicant: U. S. Department of Agriculture, Animal and Plant Health Inspection Service, 4700 River Road, Unit 149, Riverdale, MD 20737. Active Ingredient: Starlicide. Product Type: Avicide. Proposed Use: Eurasian collared dove. Contact: Jennifer Gaines, (703) 305-5967, email address: gaines.jennifer@epa.gov.

List of Subjects

Environmental protection, Pesticides and pest.

Dated: December 21, 2012.
Lois Rossi,
Director, Registration Division, Office of Pesticide Programs.

[FR Doc. 2012-31375 Filed 12-28-12; 8:45 am]

BILLING CODE 6560-50-P